Proclamation 7566 of May 21, 2002

National Missing Children's Day, 2002

By the President of the United States of America

A Proclamation

On May 25, 1979, 6-year old Etan Patz disappeared on his way to school in New York City. The ensuing search focused national attention on the tragedy of missing children, as well as the lack of resources and information available to help locate and recover missing children. Since that time, many high-profile cases and the dedicated efforts of parents, the law enforcement community, and others concerned with children's well-being have generated even greater awareness about the need to protect children from criminals and other predators.

During this year, we mark the 20th anniversary of the passage of the Missing Children Act, originally signed into law by President Reagan. Over the past two decades, the Department of Justice, along with many important community and faith-based partners, have made great progress in raising public awareness, improving public safety, locating and recovering missing children, and protecting children from exploitation on the Internet.

Americans must continue to work together to ensure the safety of our children. The Department of Justice will commemorate National Missing Children's Day by presenting six awards that recognize outstanding efforts to safeguard our youngest citizens. The recipients deserve our heartfelt thanks and appreciation for their dedicated work. As they are honored for their contributions, I urge all Americans to take an active role in upholding the safety of our communities and in defending the well-being of our children.

NOW, THEREFORE, I, GEORGE W. BUSH, President of the United States of America, by virtue of the authority vested in me by the Constitution and laws of the United States, do hereby proclaim May 25, 2002, as National Missing Children's Day. I call upon Americans to join me in commemorating this observance and to remember those young people who are missing. I also call on our citizens to recognize and thank those who work on behalf of missing children and their families. By renewing our commitment to protect our children from harm, we can save lives and prevent untold suffering and grief among the most vulnerable of our society.

IN WITNESS WHEREOF, I have hereunto set my hand this twenty-first day of May, in the year of our Lord two thousand two, and of the Independence of the United States of America the two hundred and twenty-sixth.

B

[FR Doc. 02-13268

Filed 5-23-02; 8:45 am]

Billing code 3195-01-P